DEPARTMENT OF TRANSPORTATION

Research and Special Programs Administration

49 CFR Part 195

[Docket RSPA-5455]

RIN 2137-AC34

Areas Unusually Sensitive to Environmental Damage

AGENCY: Research and Special Programs Administration (RSPA), DOT.

ACTION: Notice of Public Workshop and Initiation of Technical Review.

SUMMARY: RSPA is concluding a pilot test of a draft definition for areas unusually sensitive to environmental damage from a hazardous liquid pipeline release, commonly referred to as unusually sensitive areas (USAs). The draft USA definition was created through a series of public workshops and technical entities. The pilot was conducted to determine if the draft definition could be used to identify and locate unusually sensitive drinking water and ecological resources using available data from government agencies and environmental organizations. RSPA invites industry, government agencies, and the public to a workshop that will begin a technical review of USA pilot results. The purpose of this workshop is to openly discuss the pilot results and to provide the results to other government agencies, environmental groups, and academia for evaluation.

DATES: The workshop will be held on April 27, 2000, from 9 to 4 and on April 28, 2000, from 9 to 1 pm. Written comments on this initiative must be submitted by June 27, 2000.

ADDRESSES: The workshop will be held at the U.S. DOT, 400 Seventh Street, SW, Room 2230, Washington, DC. Non-federal employee visitors are admitted into the DOT building through the southwest entrance at Seventh and E Streets, SW. Persons who want to participate in the workshop should call (202) 366-4561 or e-mail their name, affiliation, and phone number to christina.sames@rspa.dot.gov. Send written comments in duplicate to the Dockets Facility, U.S. Department of Transportation, Room #PL-401, 400 Seventh Street, SW, Washington, DC 20590-0001. Persons who want confirmation of mailed comments must include a self-addressed stamped postcard. Comments may also be e-mailed to ops.comments@rspa.dot.gov in ASCII or text format. The Dockets Facility is open from 10 am to 5 pm, Monday through Friday, except on Federal holidays when the facility is closed.

FOR FURTHER INFORMATION CONTACT: Christina Sames, (202) 366-4561, or e-mail christina.sames@rspa.dot.gov, about this document, or the Dockets Unit, U.S. Department of Transportation, Plaza 401, 400 Seventh Street SW, Washington, DC 20590, for copies of this document or other material in the docket, including material from previous workshops. The public may also review material in the docket by accessing the Docket Management System's home page at http://dms.dot.gov. An electronic copy of any document published in the Federal Register may be downloaded from the Government Printing Office Electronic Bulletin Board Service at (202) 512-1661.

SUPPLEMENTARY INFORMATION:

Legislative History

The pipeline safety statute (49 U.S.C. § 60109) requires the Secretary of Transportation to prescribe standards that establish criteria for identifying each hazardous liquid pipeline facility and gathering line located in an area that the Secretary describes as unusually sensitive to environmental damage if there is a hazardous liquid pipeline accident (USAs). When describing USAs, the Secretary is to consider areas where a pipeline rupture would likely cause permanent or long-term environmental damage. These areas are to include:

1. Locations near pipeline rights-of-way that are critical to drinking water, including intake locations for community water systems and critical sole source aquifer protection areas; and

2. Locations near pipeline rights-of-way that have been identified as critical wetlands, riverine or estuarine systems, national parks, wilderness areas, wildlife preservation areas or refuges, wild and scenic rivers, or critical habitat areas for threatened and endangered species.

Public Workshops to Date

RSPA has held five public workshops on USAs. Participants at the workshops have included representatives from the Environmental Protection Agency; the Departments of Interior, Agriculture, Transportation, and Commerce; nongovernment agencies; academia; and the public.

The first workshop was held on June 15 and 16, 1995, and focused on criteria being considered to determine USAs (60 FR 27948; May 26, 1995; Docket PS-140(a)). A second workshop held on October 17, 1995, focused on developing a process that could be used to determine if an area is a USA (60 FR 44824; August 29, 1995; Docket PS-140(b)). The third workshop on January 18, 1996, focused on guiding principles for determining USAs (61 FR 342; January 4, 1996; Docket PS-140(c)). The fourth workshop held April 10-11, 1996 (61 FR 13144; March 26, 1996; Docket PS-140(d)) focused on criteria, components, and parameters of terms that have been used when describing USAs and the scope and objectives of additional USA workshops.

A fifth workshop was held June 18-19, 1996 (61 FR 27323; May 31, 1996; Docket PS-140(e)) and focused on identifying critical drinking water resources and possible filtering criteria that could be used to identify drinking water resources that are unusually sensitive to a hazardous liquid pipeline release. The critical drinking water resources that were identified in that workshop include public water systems, wellhead protection areas, and sole source aquifers. Filtering criteria include the depth and geology of a drinking water resource and if the public water system has an adequate alternative drinking water supply. Transcripts of and information presented at these public workshops are in the Docket.

API Work

In addition to the five public workshops, the American Petroleum Institute (API) held two meetings with technical experts to discuss unusually sensitive ecological resources. The meetings were held on October 23-24, 1996, and June 25-26, 1997. Representatives of RSPA, EPA, the Departments of Interior, Commerce, and Agriculture, and The Nature Conservancy attended these meetings. Attendees discussed possible ecological USA candidates and filtering criteria that could be used to determine which ecological resources are unusually sensitive to damage from a hazardous liquid pipeline release. The significant ecological resources that were identified during the meetings include threatened and endangered species, critically imperiled and imperiled species, depleted marine mammals, and areas containing a large percent of the world's population of a migratory waterbird species. Filtering criteria focused on the extent to which a species is endangered, areas that are critical to multiple sensitive species, and areas where a large percent of a species population could be impacted. Notes from these technical meetings are in the Docket.

Proposed Definition and Pilot Test

RSPA recently proposed a definition for unusually sensitive drinking water end ecological resources in a notice of proposed rulemaking (64 FR 73464; December 30, 1999). The proposed definition was created through a series of public workshops and our collaboration with a wide-range of federal, state, public, and industry stakeholders. The identification of USAs uses a multi-step process that begins by designating and assessing environmentally sensitive areas (ESAs), determining which of these ESAs are potentially more susceptible to permanent or long term damage from a hazardous liquid release (areas of primary concern), and finally identifying filtering criteria to determine which areas of primary concern can be reached by a release and sustain permanent or long-term damage. The areas that result are the proposed USAs. Proposed section 195.6 gives a more detailed definition of USAs.

OPS is concluding a pilot test to determine if the proposed definition can be used to identify and locate unusually sensitive drinking water and ecological resources using available data from government agencies and environmental organizations. Texas, California, and Louisiana were the states chosen to test the proposed USA definition due to the large number of hazardous liquid pipelines and the considerable drinking water and ecological resources that exist in these states. OPS will use the results to evaluate whether the proposed definition identifies the majority of unusually sensitive areas and whether environmental data is accessible and appropriate to support the proposed definition. Once OPS finishes the test, has a peer review and gets comment on the proposed definition, it will go forward with a final rule. API will also use the results of this pilot test to create an industry guidance document on USAs.

Workshop and Technical Review

OPS is conducting a public workshop to discuss the results of the pilot test and to begin a technical review of the pilot results. Discussions at the workshop will include background on the USA initiative, the drinking water and ecological definitions, models that were used to apply the proposed definition, data that was gathered, how the data was processed using a geographic information system (GIS), and maps of the resulting USAs.

The workshop will begin a technical review of the pilot results. Drinking water and ecological resource experts from federal and state agencies, academia, environmental groups, and others have been invited to participate in a formal technical review of the pilot results. These experts include the Department of Interior's Office of the Secretary, Fish and Wildlife Service, and National Park Service; the Department of Agriculture's Forest Service; the Department of Commerce's National Marine Fisheries Service; the Environmental Protection Agency's Office of Groundwater and Drinking Water, and Office of Solid Waste and Emergency Response; state Nature Conservancies and Heritage Programs; state drinking water resource agencies; academia and other environmental experts. These reviewers will help to identify other data sets that might be utilized and other resources that might be considered, and to improve the definition's capability to identify USAs. OPS welcomes additional comments on the proposed definition and the pilot results. RSPA will use the final pilot results and comments received to move toward completing a USA definition by the end of this year.

Issued in Washington, DC on March 31, 2000.
Richard B. Felder,
Associate Administrator for Pipeline Safety.

[FR Doc. 00-8454 Filed 4-5-00; 8:45 am]

BILLING CODE 4910-60-P